DEPARTMENT OF VETERANS AFFAIRS

[OMB Control No. 2900-0198]

Agency Information Collection Activity: Application for Annual Clothing Allowance

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish a notice in the Federal Register concerning each proposed collection of information, including each proposed extension of a currently approved collection, and allow 60 days for public comment in response to the notice.

DATES: Comments must be received on or before April 6, 2026.

ADDRESSES: Comments must be submitted through www.regulations.gov.

FOR FURTHER INFORMATION CONTACT:

Program-specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Application for Annual Clothing Allowance (VA Form 10-8678).

OMB Control Number: 2900-0198. https://www.reginfo.gov/public/do/PRASearch (Once at this link, you can enter the OMB Control Number to find the historical versions of this Information Collection).

Type of Review: Revision of a currently approved collection.

Abstract: Authorization for this information collection is found in 38 U.S.C., Section 1162, Clothing Allowance, which provides authority for the Secretary to pay a clothing allowance to veterans who, because of a service-connected disability, wear or use a prosthetic or orthopedic appliance (including a wheelchair) which tends to wear out or tear clothing or uses medication that causes irreparable damage to the outer garments. Entitlement to this benefit is granted by 38 CFR 3.810, Clothing Allowance, upon application by the eligible individual. VA Form 10-8678 is used to collect the necessary information to determine if the veteran has established entitlement for a clothing allowance payment. The form has been redesigned for clarity and ease of use for the respondent. However, there is no change in the estimated burden to complete the form. Based upon program data for recent years, the estimated number of respondents has increased. There is an associated increase in the total annual burden hours for this information collection.

Affected Public: Individuals or Households.

Estimated Annual Burden: 2,000 hours.

Estimated Average Burden per Respondent: 10 minutes.

Frequency of Response: Once annually.

Estimated Number of Responses: 12,000.

Authority: 44 U.S.C. 3501 et seq.

Lanea Haynes,
Acting, VA PRA Clearance Officer, (Alt), Office of Information Technology, Data Governance Analytics, Department of Veterans Affairs.

[FR Doc. 2026-02202 Filed 2-2-26; 8:45 am]

BILLING CODE 8320-01-P